DEPARTMENT OF HEALTH AND HUMAN SERVICES

Administration for Children and Families

Submission for OMB Review; Comment Request

Title: TANF High Performance Bonus Report for Fiscal Year 2001.

OMB No.: 0970-0180.

Description: Public Law 104-93 (PRWORA) established the Temporary Assistance for Needy Families (TANF) Program. It also included provisions for rewarding States that attain the highest levels of success in achieving the legislative goals of that program. The purpose of this collection is to obtain data upon which to base the computation for measuring State performance in meeting those goals and allocating the bonus grant funds appropriated under the law. States will not be required to submit this information unless they elect to compete for the bonus grants. Respondents, therefore, may include any of the 50 States, the District of Columbia, and the U.S. Territories of Guam, Puerto Rico, and the Virgin Islands. We are requesting extension of this form through May 31, 2002.

Respondents: States and Territorial Government.

Annual Burden Estimates: 8,640.

Instrument | Number of respondents | Number of responses per respondent | Average burden hours per response | Total burden hours
ACF-200 | 54 | 4 | 40 | 8,640

Estimated Total Annual Burden Hours: 8,640.

Additional Information: Copies of the proposed collection may be obtained by writing to The Administration for Children and Families, Office of Information Services, 370 L'Enfant Promenade, S.W., Washington, D.C. 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503, Attn: Desk Officer for ACF.

Dated: November 20, 2000.
Bob Sargis,
Reports Clearance Officer.

[FR Doc. 00-29995 Filed 11-22-00; 8:45 am]

BILLING CODE 4184-01-M